DEPARTMENT OF ENERGY

Federal Energy Regulatory Commission

[Project Nos. 20-019, 2401-007, and 472-017]

PacifiCorp; Notice Granting Late Intervention

April 4, 2002.

On March 15, 2000, the Commission issued a notice of new major license applications filed by PacifiCorp for the Bear River Hydroelectric Projects—Soda Hydroelectric Project No. 20-019, Grace-Cove Hydroelectric Project No. 2401-007, and Oneida Hydroelectric Project No. 472-017, located on the Bear River in Caribou and Franklin Counties, Idaho. The notice established May 15, 2000, as the deadline for filing motions to intervene in the proceeding.

On March 4, 2002, a late motion to intervene was filed by the United States Department of Agriculture, Forest Service. Granting the late motion to intervene will not unduly delay or disrupt the proceeding or prejudice other parties to it. Therefore, pursuant to Rule 214,¹ the late motion to intervene filed in this proceeding by the Forest Service is granted, subject to the Commission's rules and regulations.

¹ 18 CFR 385.214 (2001).

Linwood A. Watson, Jr.,
Deputy Secretary.

[FR Doc. 02-8649 Filed 4-9-02; 8:45 am]

BILLING CODE 6717-01-P